DEPARTMENT OF ENERGY

Federal Energy Regulatory Commission

[Docket Nos. RP96-200-092, RP96-200-097, RP96-200-101, RP96-200-102, RP96-200-103, RP96-200-104, RP96-200-105, RP96-200-106, RP96-200-107, RP96-200-108, RP96-200-110, RP96-200-111, RP96-200-113, and RP96-200-114]

CenterPoint Energy Gas Transmission Company; Notice of Technical Conference

December 5, 2003.

The Commission staff will hold a technical conference in the captioned subdockets on December 12, 2003, beginning at 9 a.m. at the Commission's headquarters at 888 First St. NE., Washington, DC, in a room to be established. The technical conference will further discuss issues raised by the September 15, 2003 Order in Docket Nos. RP96-200-092, et al., (104 FERC ¶ 61,280), which directed CenterPoint Energy Transmission Company (CEGT) to file certain tariff provisions and to modify certain non-conforming gas transportation agreements.

The issues in the enumerated Docket No. RP96-200 subdockets are closely related. Therefore, Commission staff believes that the discussion of these issues at a public technical conference, which would be open only to Commission staff and interested parties that have intervened in these subdockets, will assist in an efficient resolution of these matters. Interested parties desiring further information should contact John M. Robinson of the advisory staff at 202-502-6808.

Magalie R. Salas,
Secretary.

[FR Doc. E3-00542 Filed 12-11-03; 8:45 am]

BILLING CODE 6717-01-P